FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 18, 2014.

A. Federal Reserve Bank of Minneapolis (Jacquelyn K. Brunmeier, Assistant Vice President) 90 Hennepin Avenue, Minneapolis, Minnesota 55480-0291:

1. Charles A. Bon, Robinson, North Dakota, and Thomas A. Bon, Fargo, North Dakota; to acquire voting shares of The First and Farmers Bank Holding Company, and thereby indirectly acquire voting shares of The First and Farmers Bank, both in Portland, North Dakota.

B. Federal Reserve Bank of Dallas (E. Ann Worthy, Vice President) 2200 North Pearl Street, Dallas, Texas 75201-2272:

1. Robert F. Barnard, individually, Christopher G. Barnard, Robert F. Barnard, all of Celeste, Texas, and Bill N. Barnard, Forney, Texas, collectively; to acquire voting shares of Metroplex North Bancshares, Inc., and thereby indirectly acquire voting shares of The First Bank of Celeste, both in Celeste, Texas.

Board of Governors of the Federal Reserve System, May 29, 2014.
Michael J. Lewandowski,
Associate Secretary of the Board.

[FR Doc. 2014-12783 Filed 6-2-14; 8:45 am]

BILLING CODE 6210-01-P